DEPARTMENT OF ENERGY

Federal Energy Regulatory Commission

[Project No. 13841-000]

County of DuPage; Notice of Preliminary Permit Application Accepted for Filing and Soliciting Comments, Motions To Intervene, and Competing Applications

December 10, 2010.

On September 21, 2010, the County of DuPage, Illinois, filed an application for a preliminary permit, pursuant to section 4(f) of the Federal Power Act (FPA), proposing to study the feasibility of the Elmhurst Quarry Pumped Storage Project (Elmhurst Quarry Project or project) to be located on Salt Creek, near Elmhurst City, DuPage County, Illinois. The sole purpose of a preliminary permit, if issued, is to grant the permit holder priority to file a license application during the permit term. A preliminary permit does not authorize the permit holder to perform any land-disturbing activities or otherwise enter upon lands or waters owned by others without the owners' express permission.

The proposed project would consist of the following: (1) A surface quarry (upper reservoir) having a total storage capacity of 8,145 acre-feet at a normal maximum operating elevation of 667 feet mean sea level (msl) and a usable capacity of 7,465 acre-feet; (2) an upper inlet/outlet structure equipped with trash racks and one or two slide gates for isolating and dewatering the penstock; (3) an 870-foot-long, 28-foot-diameter penstock consisting of both shaft and tunnel segments and extending between the upper inlet/outlet and the pump/turbines below; (4) an underground mine (lower reservoir) 250 feet below the bottom of the upper reservoir having a total/usable storage capacity of 7,465 acre-feet at normal maximum operation elevation of 210 feet msl; (5) a powerhouse with approximate dimensions of 185 feet long by 80 feet wide by 120 feet high and containing two vertical Francis reversible pump/turbine-motor/generator units rated for 125 megawatts each at 415 feet of net head; (6) a 120-foot-long, 28-foot-diameter tailrace tunnel connecting the pump/turbine draft tubes with the lower inlet/outlet; (7) a lower inlet/outlet structure equipped with one or two slide gates for isolating and dewatering the tailrace tunnel; (8) a substation containing step-up transformers, circuit breakers, and disconnect switches; (9) an underground 2-mile-long, 138-kilovolt (kV) transmission line extending from the project substation to an overhead 138-kV transmission line owned by Commonwealth Edison (the point of interconnection); (10) a switchyard constructed at the point of interconnection; and (11) appurtenant facilities. The estimated annual generation of the Elmhurst Quarry Project would be 708.5 gigawatt-hours.

Applicant Contact: Mr. Anthony Charlton, Director, Department of Environmental Concerns, DuPage County Center, 421 N. County Farm Road, Wheaton, Illinois 60187; phone: (630) 407-6698.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13841-000) in the docket number field to access the document. For assistance, contact FERC Online Support.

Kimberly D. Bose,
Secretary.

[FR Doc. 2010-31711 Filed 12-16-10; 8:45 am]

BILLING CODE 6717-01-P